DEPARTMENT OF VETERANS AFFAIRS

38 CFR Part 4

RIN 2900-AM70

Grants to States for Construction or Acquisition of State Home Facilities—Update of Authorized Beds; Correction

AGENCY: Department of Veterans Affairs.

ACTION: Proposed rule; Correction.

SUMMARY: The Department of Veterans Affairs (VA) published a proposed rule in the Federal Register July 10, 2009, to amend its regulations regarding grants to States for construction or acquisition of State homes to update the maximum number of nursing home and domiciliary beds designated for each State and to amend the definition of “State” for purposes of these grants to include Guam, the Northern Mariana Islands, and American Samoa. In the preamble, the table showing the changes in the maximum number of beds for each State contained an error for the number of beds for Vermont. This document corrects that error.

DATES: Comments must be received on or before September 8, 2009.

ADDRESSES: Written comments may be submitted by: Mail or hand-delivery to Director, Regulations Management (02REG), Department of Veterans Affairs, 810 Vermont Avenue, NW., Room 1068, Washington, DC 20420; fax to (202) 273-9026; or e-mail at http://www.regulations.gov. For further information concerning submission addresses, please see the proposed rule published at 74 FR 33193, July 10, 2009.

FOR FURTHER INFORMATION CONTACT: James F. Burris, MD, Chief Consultant, Geriatrics and Extended Care State Home Construction Grant Program (114), Veterans Health Administration, Department of Veterans Affairs, 810 Vermont Avenue, NW., Washington, DC 20420, (202) 461-6774 (This is not a toll-free number).

SUPPLEMENTARY INFORMATION: VA published a document in the Federal Register on July 10, 2009, at 74 FR 33192, amending its regulations regarding grants to States for construction or acquisition of State homes to update the maximum number of nursing home and domiciliary beds designated for each State, and to amend the definition of “State.” This document corrects an error in the preamble of the proposed rule in the maximum number of beds for the State of Vermont. However, in the regulatory text section of the proposed rule contains the correct number of 142 beds as shown in the table.

In FR Doc. E9-16341, published July 10, 2009, (74 FR 33192), make the following correction: On page 33194, in the third column of the table “New max # of beds (based on 2020 projection)” in the entry for Vermont, remove the number “1312” and add, in its place, “142”.

William F. Russo,
Director, Regulations Management.

[FR Doc. E9-18683 Filed 8-6-09; 8:45 am]

BILLING CODE 8320-01-P